DEPARTMENT OF TRANSPORTATION

Federal Aviation Administration

14 CFR Part 71

[Docket No. FAA-2009-0878; Airspace Docket No. 09-ASW-7]

RIN 2120-AA66

Establishment of Low Altitude Area Navigation Route (T-284); Houston, TX

AGENCY: Federal Aviation Administration (FAA), DOT.

ACTION: Final rule; withdrawal.

SUMMARY: A final rule, published in the Federal Register April 1, 2010, establishing low altitude area navigation (RNAV) route T-284 for the Houston, TX, terminal area, is being withdrawn. As a result of Houston Area Air Traffic System (HAATS) Project, Phase 3C, program actions, the route is pending redesign and will be resubmitted for rulemaking at a future date.

DATES: Effective date 0901 UTC, July 8, 2010. The Director of the Federal Register approves this incorporation by reference action under 1 CFR part 51, subject to the annual revision of FAA Order 7400.9 and publication of conforming amendments.

FOR FURTHER INFORMATION CONTACT: Colby Abbott, Airspace and Rules Group, Office of System Operations Airspace and AIM, Federal Aviation Administration, 800 Independence Avenue, SW., Washington, DC 20591; telephone: (202) 267-8783.

SUPPLEMENTARY INFORMATION:

History

On April 1, 2010, the FAA published in the Federal Register a final rule to establish RNAV route T-284 for the Houston, TX, terminal area (75 FR 16336), Docket No. FAA-2009-0878. Subsequent to publication, the Manager, Houston Air Route Traffic Control Center requested the recently published route be withdrawn pending redesign. The FAA intends to resubmit a redesigned route as a new rulemaking proposal at a future date.

Withdrawal of Final Rule

Accordingly, pursuant to the authority delegated to me, the FAA withdraws the final rule published in the Federal Register April 1, 2010 (75 FR 16336) [FR Doc. 2010-7245].

Authority: 49 U.S.C. 106(g), 40103, 40113, 40120; E.O. 10854, 24 FR 9565, 3 CFR, 1959-1963 Comp., p. 389.

Issued in Washington, DC, on June 29, 2010.
Paul Gallant,
Acting Manager, Airspace and Rules Group.

[FR Doc. 2010-16492 Filed 7-7-10; 8:45 am]

BILLING CODE 4910-13-P